DEPARTMENT OF DEFENSE

Office of the Secretary

Reserve Forces Policy Board; Notice of Federal Advisory Committee Meeting

AGENCY: Under Secretary of Defense for Personnel and Readiness, Department of Defense (DoD).

ACTION: Notice of Federal Advisory Committee meeting.

SUMMARY: The DoD is publishing this notice to announce that the following Federal Advisory Committee meeting of the Reserve Forces Policy Board (RFPB) will take place.

DATES: The RFPB will hold an open meeting to the public Wednesday, February 15, 2023 from 8:30 a.m. to 4:30 p.m.

ADDRESSES: The RFPB meeting address is the Pentagon Library and Conference Center, Room B7, Arlington, VA.

FOR FURTHER INFORMATION CONTACT: Colonel Rich Sudder at richard.m.sudder.mil@mail.mil (Email). Mailing address is Reserve Forces Policy Board, 5109 Leesburg Pike, Suite 501, Falls Church, VA 22041. Website: https://rfpb.defense.gov/. The most up-to-date changes to the meeting agenda can be found on the website.

SUPPLEMENTARY INFORMATION: This meeting is being held under the provisions of the Federal Advisory Committee Act (FACA) of 1972 (5 U.S.C. Appendix, as amended), the Government in the Sunshine Act of 1976 (5 U.S.C. 552b, as amended), and 41 CFR 102-3.140 and 102-3.150.

Purpose of the Meeting: The purpose of the meeting is to obtain, review and evaluate information related to strategies, policies, and practices designed to improve and enhance the capabilities, efficiency, and effectiveness of the Reserve Components.

Agenda: The RFPB will hold an open meeting to the public Wednesday, February 15, 2023 from 8:30 a.m. to 4:30 p.m. The meeting will focus on discussions with: the Secretary of Defense (invited) will address key National Defense Strategy (NDS) challenges facing our Nation, and the priorities for the Total Force integrating the Reserve Component to defend a contested Homeland; the Deputy Under Secretary of Defense for Personnel and Readiness will discuss the Under Secretary of Defense for Personnel and Readiness guidance with its effects on the Reserve Component's policies and programs and his views on key Reserve challenges in supporting the Total Force in a contested Homeland; the RFPB Military Executive will discuss the proposed recommendation for a Total Force Policy and present it for a Board vote; the Deputy Assistant Secretary for Military Personnel Policy will provide current status on Reserve Component recruiting & retention data, initiatives, and the future outlook of the Reserve Component; the Director of Personnel, Headquarters U.S. Air Force Reserve will provide an update on the Space Force personnel and potential for the formation of a Reserve and National Guard Space component; the RFPB Subcommittee Break-Out Sessions with the Subcommittee for Integration of Total Force Personnel Policy, the Subcommittee for the Reserve Components' Role in Homeland Defense and Support to Civil Authorities, and the Subcommittee for Total Force Integration will conduct discussions on subcommittees' priorities and focus areas received from this meeting's discussions and other areas where the Board can best provide support to the taskings of the Secretary of Defense and the Sponsor, USD P&R, involving the Reserve Component; the Senior Enlisted Advisor to the Chairman of the Joint Chiefs of Staff will discuss the current status of the Services' recruiting and retention efforts, current and emerging personnel issues, and topics pertaining to Total Force Policy; the U.S. Navy, U.S. Army, U.S. Air Force Under Secretaries and Assistant Commandant of the U.S. Marine Corps will discuss their respective Service's priorities related to personnel issues, recruiting and retention initiatives, and topics pertaining to the Total Force Policy; the RFPB Subcommittee chairs of the Subcommittee for Integration of Total Force Personnel Policy, the Subcommittee for the Reserve Components' Role in Homeland Defense and Support to Civil Authorities, and the Subcommittee for Total Force Integration will conduct discussions on subcommittee priorities and focus areas received from the meeting's discussions and areas where the Board can best provide recommended support to the taskings of the Secretary of Defense and the Sponsor, USD P&R, involving the Reserve Component; and will conclude with the Chairman's closing remarks.

Meeting Accessibility: Pursuant to 5 U.S.C. 552b, as amended and 41 CFR 102-3.140 through 102-3.165, and subject to the availability of space, the meeting is open to the public from 8:30 a.m. to 4:30 p.m. Seating is based on a first-come, first-served basis. All members of the public who wish to attend the public meeting must contact Colonel Rich Sudder, the Assistant Designated Federal Officer, no later than 12:00 p.m. on Monday, February 13, 2023, as listed in the FOR FURTHER INFORMATION CONTACT section.

Written Statements: Pursuant to 41 CFR 102-3.105(j) and 102-3.140 and section 10(a)(3) of the FACA, interested persons may submit written statements to the RFPB at any time about its approved agenda or at any time on the Board's mission. Written statements should be submitted to the RFPB's Designated Federal Officer at the address or facsimile number listed in the FOR FURTHER INFORMATION CONTACT section. If statements pertain to a specific topic being discussed at the planned meeting, then these statements must be submitted no later than five (5) business days prior to the meeting in question. Written statements received after this date may not be provided to or considered by the RFPB until its next meeting. The Designated Federal Officer will review all timely submitted written statements and provide copies to all the committee members before the meeting that is the subject of this notice. Please note that since the RFPB operates under the provisions of the FACA, all submitted comments and public presentations will be treated as public documents and will be made available for public inspection, including, but not limited to being posted on the RFPB's website.

Dated: January 24, 2023.
Aaron T. Siegel,
Alternate OSD Federal Register Liaison Officer, Department of Defense.

[FR Doc. 2023-01721 Filed 1-26-23; 8:45 am]

BILLING CODE 5001-06-P